COMMODITY FUTURES TRADING COMMISSION

Sunshine Act Meetings

Agency Holding the Meeting: Commodity Futures Trading Commission.

Time and Date: 10 a.m., Thursday, August 25, 2005.

Place: 1155 21st St., NW., Washington, DC, 9th Floor Commission Conference Room.

Status: Closed.

Matters to be Considered: Rule Enforcement Review.

CONTACT PERSON FOR MORE INFORMATION: Jean A. Webb, (202) 418-5100.

Catherine D. Daniels,
Assistant Secretary of the Commission.

[FR Doc. 05-16289 Filed 8-12-05; 1:05 pm]

BILLING CODE 6351-01-M